DEPARTMENT OF STATE

[Public Notice: 8863; Docket No. DOS-2014-0022]

Notice of Meeting of the Cultural Property Advisory Committee

There will be a meeting of the Cultural Property Advisory Committee October 7-9, 2014 at the U.S. Department of State, Annex 5, 2200 C Street NW., Washington, DC. Portions of this meeting will be closed to the public, as discussed below.

During the closed portion of the meeting, the Committee will review the proposal to extend the Memorandum of Understanding Between the Government of the United States of America and the Government of the Republic of El Salvador Concerning the Imposition of Import Restrictions on Certain Categories of Archaeological Material from the Prehispanic Cultures of the Republic of El Salvador (“MOU”) [Docket No. DOS-2014-0022]. An open session to receive oral public comment on the proposal to extend the MOU with El Salvador will be held on Tuesday, October 7, 2014, beginning at 10:30 a.m. EDT.

Also, during the closed portion of the meeting, the Committee will conduct interim reviews of the Memorandum of Understanding between the Government of the United States of America and the Government of the Republic of Bolivia Concerning the Imposition of Import Restrictions on Archaeological Material from the Pre-Columbian Cultures and Certain Ethnological Material from the Colonial and Republican Periods of Bolivia and the Memorandum of Understanding between the Government of the United States of America and the Government of the Hellenic Republic Concerning the Imposition of Import Restrictions on Categories of Archaeological and Byzantine Ecclesiastical Ethnological Material through the 15th Century A.D. of the Hellenic Republic. Public comment, oral and written, will be invited at a time in the future should these Memoranda of Understanding be proposed for extension. In closed session, the Committee will also continue its review of the request from the Arab Republic of Egypt to enter into a bilateral agreement

The Committee's responsibilities are carried out in accordance with provisions of the Convention on Cultural Property Implementation Act (19 U.S.C. 2601 et seq.; “Act”). The text of the Act and MOUs, as well as related information, may be found at http://culturalheritage.state.gov. If you wish to attend the open session on October 7, 2014, you should notify the Cultural Heritage Center of the Department of State at (202) 632-6301 no later than 5:00 p.m. (EDT) September 29, 2014, to arrange for admission. Seating is limited. When calling, please specify if you need reasonable accommodation. The open session will be held at 2200 C St. NW., Washington, DC 20037. Please plan to arrive 30 minutes before the beginning of the open session.

If you wish to make an oral presentation at the open session you must request to be scheduled by the above-mentioned date and time, and you must submit written comments, ensuring that they are received no later than September 29, 2014, at11:59 p.m. (EDT), via the eRulemaking Portal (see below), to allow time for distribution to Committee members prior to the meeting. Oral comments will be limited to five (5) minutes to allow time for questions from members of the Committee. All oral and written comments must relate specifically to the determinations under 19 U.S.C. 2602, pursuant to which the Committee must make findings. This statute can be found at the Web site noted above.

If you do not wish to make oral comment but still wish to make your views known, you may send written comments for the Committee to consider. Again, your comments must relate specifically to the determinations under 19 U.S.C. 2602. Submit all written materials electronically through the eRulemaking Portal (see below), ensuring that they are received no later than September 29, 2014 at 11:59 p.m. (EDT). Our adoption of this procedure facilitates public participation; implements Section 206 of the E-Government Act of 2002, Public Law 107-347, 116 Stat. 2915; and supports the Department of State's “Greening Diplomacy” initiative which aims to reduce the State Department's environmental footprint and reduce costs.

Please submit comments only once using one of these methods:

• Electronic Delivery. To submit comments electronically, go to the Federal eRulemaking Portal (http://www.regulations.gov), enter the Docket No. DOS-2014-0022, and follow the prompts to submit a comment. Comments submitted in electronic form are not private. They will be posted on the site http://www.regulations.gov. Because the comments cannot be edited to remove any identifying or contact information, the Department of State cautions against including any information in an electronic submission that one does not want publicly disclosed (including trade secrets and commercial or financial information that is privileged or confidential pursuant to 19 U.S.C. 2605(i)(1)).

• Regular Mail or Delivery. If you wish to submit information that you believe to be privileged or confidential, and submitted in confidence pursuant to 19 U.S.C. 2605(i)(1), you may do so via regular mail, commercial delivery, or personal hand delivery to the following address: Cultural Heritage Center (ECA/P/C), SA-5, Floor C2, U.S. Department of State, Washington, DC 20522-05C2. Only comments that you believe to be privileged or confidential will be accepted via those methods. Comments must be postmarked by September 29, 2014.

Comments submitted by fax or email are not accepted. All comments must be submitted via the eRulemaking Portal only. All comments will be viewable by the public, so do not include any information that you consider privileged or confidential.

The Department of State requests that any party soliciting or aggregating comments received from other persons for submission to the Department of State inform those persons that the Department of State will not edit their comments to remove any identifying or contact information, and that they therefore should not include any information in their comments that they do not want publicly disclosed.

As noted above, portions of the meeting will be closed pursuant to 5 U.S.C. 552b(c)(9)(B) and 19 U.S.C. 2605(h), the latter of which stipulates that “The provisions of the Federal Advisory Committee Act shall apply to the Cultural Property Advisory Committee except that the requirements of subsections (a) and (b) of sections 10 and 11 of such Act (relating to open meetings, public notice, public participation, and public availability of documents) shall not apply to the Committee, whenever and to the extent it is determined by the President or his designee that the disclosure of matters involved in the Committee's proceedings would compromise the government's negotiation objectives or bargaining positions on the negotiations of any agreement authorized by this chapter.” Pursuant to law, Executive Order, and Delegation of Authority, I have made such a determination.

Personal information regarding attendees is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: September 3, 2014.
Evan Ryan,
Assistant Secretary, Bureau of Educational and Cultural Affairs, U.S. Department of State.

[FR Doc. 2014-21574 Filed 9-9-14; 8:45 am]

BILLING CODE 4710-05-P